ENVIRONMENTAL PROTECTION AGENCY

[OECA-2003-0037; FRL-7614-1]

Agency Information Collection Activities; Submission for OMB Review and Approval; Comment Request; NESHAP for Flexible Polyurethane Foam Production (40 CFR Part 63, Subpart III), EPA ICR Number 1783.03, OMB Control Number 2060-0357

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on January 31, 2004. Under OMB regulations, the Agency may continue to conduct or sponsor the collection of information while this submission is pending at OMB. This ICR describes the nature of the information collection and its estimated burden and cost.

DATES: Additional comments may be submitted on or before February 26, 2004.

ADDRESSES: Submit your comments, referencing docket ID number OECA-2003-0037, to (1) EPA online using EDOCKET (our preferred method), by e-mail to docket.oeca@epa.gov, or by mail to: EPA Docket Center, Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division, Mail Code 2223A, Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On May 19, 2003 (68 FR 27059), EPA sought comments on this ICR pursuant to 5 CFR 1320.8(d). EPA received no comments.

EPA has established a public docket for this ICR under Docket ID Number OECA-2003-0037, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1514. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Flexible Polyurethane Foam Production (40 CFR part 63, subpart III).

Abstract: The Maximum Achievable Control Technology (MACT) standards for Flexible Polyurethane Foam Production, published at 40 CFR part 63, subpart III, were proposed on December 27, 1996 and promulgated on October 7, 1998. These standards apply to owners or operators of new and existing facilities that engage in the manufacture of flexible polyurethane foam products which emit hazardous air pollutants (HAPs). This includes facilities making slabstock flexible polyurethane foam (“slabstock foam”), rebond flexible polyurethane foam (“rebond foam”), and/or molded flexible polyurethane foam (“molded foam”).

In general, all MACT standards require initial notifications, performance tests, and periodic reports. Owners or operators of flexible polyurethane foam production facilities to which this rule is applicable must choose one of the compliance options described in the standard or reduce HAP emissions to below the compliance level. Specifically, the rule requirements for slabstock foam producers include an initial notification, notification of compliance status, semiannual reports and annual compliance certifications. In addition, respondents are required to submit a pre-compliance report that describes the HAP compliance procedures, and recordkeeping procedures. Those electing to comply with the slabstock foam emission limitation using recovery devices must measure and record emissions as specified in § 63.1297 of the rule. The rule requirements for molded and rebond foam producers include a notification of a compliance status report and an annual compliance certification. These notifications, reports, and records are essential in determining compliance, and are required of all sources subject to MACT.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 43 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Slabstock and rebond/molded flexible polyurethane foam production facilities that emit hazardous air pollutants.

Estimated Number of Respondents: 132.

Frequency of Response: Initial, semiannual and annual.

Estimated Total Annual Hour Burden: 9,047 hours.

Estimated Total Cost: $572,000, includes $0 capital/startup costs, $0 O&M costs and $572,000 labor costs. There are no total capital/startup costs and operation and maintenance costs for this ICR due to the following assumptions: (1) No new sources will become subject to these standards; (2) the existing sources conducting modifications will not be purchasing new monitoring equipment; and (3) existing slabstock sources are complying with the source-wide emission limit and are not required to use bag leak detectors. The capital/startup cost and O&M cost for continuous parameter monitors (CPMs) are not attributed to this rule since sources already had the CPMs when the rule was promulgated.

Changes in the Estimates: There is an increase of 2,647 hours in the total estimated burden currently identified in the OMB Inventory of Approved ICR Burdens. This increase is due to the omission of the burden associated with annual compliance certifications in the active ICR which was corrected in its renewal. The slabstock foam producers are complying with the annual compliance certification requirement concurrently with the semiannual reports and therefore, do have an additional burden associated with it. However, the molded/rebond foam producers only have the annual compliance certification reporting requirement and its burden must be accounted for in the ICR separately.

Dated: January 13, 2004.
Deborah Williams,
Acting Director, Collection Strategies Division.

[FR Doc. 04-1683 Filed 1-26-04; 8:45 am]

BILLING CODE 6560-50-P